DEPARTMENT OF COMMERCE

International Trade Administration

[A-405-803]

Purified Carboxymethylcellulose from Finland; Notice of Final Results of Antidumping Duty Administrative Review

AGENCY: Import Administration, International Trade Administration, Department of Commerce.

SUMMARY: On April 9, 2009, the Department of Commerce (the Department) published in the Federal Register the preliminary results of the administrative review of the antidumping duty order on purified carboxymethylcellulose from Finland. See Purified Carboxymethylcellulose from Finland; Preliminary Results of Antidumping Duty Administrative Review, 74 FR 16180 (April 9, 2009) (Preliminary Results). We gave interested parties an opportunity to comment on the Preliminary Results, and received no comments.

EFFECTIVE DATE: June 18, 2009.

FOR FURTHER INFORMATION CONTACT: Tyler Weinhold, or Robert James, AD/CVD Operations, Office 7, Import Administration, International Trade Administration, U.S. Department of Commerce, 14th Street and Constitution Avenue, NW, Washington, DC 20230; telephone (202) 482-1121 or (202) 482-0649, respectively

SUPPLEMENTARY INFORMATION:

Background

On April 9, 2009, the Department published the preliminary results of administrative review of the antidumping duty order covering purified CMC from Finland. See Preliminary Results. The parties subject to this review are CP Kelco Oy and CP Kelco U.S., Inc. (collectively, CP Kelco). The petitioner in this proceeding is the Aqualon Company, a division of Hercules Incorporated (Petitioner).

In the Preliminary Results, the Department stated that interested parties were to submit case briefs within 30 days of publication of the Preliminary Results and rebuttal briefs within five days after the due date for filing case briefs. See Preliminary Results at 16185. No interested party submitted a case or rebuttal brief. On April 8, 2009, we issued a supplementary questionnaire to CP Kelco to address certain inconsistencies in CP Kelco's U.S. sales response. CP Kelco responded on April 14, 2009, and submitted a corrected U.S. sales database. We modified the margin calculation program used in the Preliminary Results in order to use CP Kelco's April 14, 2009, U.S. sales database for the final results. We made no other changes for the final results.¹

¹ In past segments of this proceeding, the Department has included the transaction fees relating to the factoring of certain comparison market and U.S. sales by CP Kelco Oy through an affiliated finance company in its dumping margin calculations. However, the Department intends to re-examine the appropriateness of including these affiliated transactions in its calculations in subsequent reviews of this proceeding.

Period of Review

The period of review (POR) is July 1, 2007, through June 30, 2008.

Scope of the Order

The merchandise covered by this order is all purified carboxymethylcellulose (CMC), sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations which, at a minimum, reduce the remaining salt and other by-product portion of the product to less than ten percent. The merchandise subject to this order is classified in the Harmonized Tariff Schedule of the United States at subheading 3912.31.00. This tariff classification is provided for convenience and customs purposes; however, the written description of the scope of the order is dispositive.

Final Results of Review

The Department has determined that the following margins exist for the period July 1, 2007, through June 30, 2008:

Manufacturer / Exporter | Weighted Average Margin (percentage)
CP Kelco | 12.00%%

Assessment Rates

Pursuant to these final results, the Department has determined, and CBP shall assess, antidumping duties on all appropriate entries. The Department intends to issue assessment instructions for CP Kelco to CBP 15 days after the date of publication of these final results. Pursuant to 19 CFR 351.212(b)(1), we calculated importer-specific (or customer-specific) ad valorem duty assessment rates based on the ratio of the total amount of the dumping margins calculated for the examined sales to the total entered value of those same sales. We will instruct CBP to assess antidumping duties on all appropriate entries covered by this review if any importer-specific (or customer-specific) assessment rate calculated in the final results of this review are above de minimis.

The Department clarified its “automatic assessment” regulation on May 6, 2003. See Antidumping and Countervailing Duty Proceedings: Assessment of Antidumping Duties, 68 FR 23954 (May 6, 2003) (Assessment of Antidumping Duties). This clarification will apply to entries of subject merchandise during the POR produced by CP Kelco for which CP Kelco did not know the merchandise was destined for the United States. In such instances, we will instruct CBP to liquidate un-reviewed entries at the 6.65 percent all-others rate if there is no company-specific rate for an intermediary involved in the transaction. See Notice of Antidumping Duty Orders: Purified Carboxymethylcellulose from Finland, Mexico, the Netherlands and Sweden, 70 FR 39734 (July 11, 2005) (Purified Carboxymethylcellulose Orders). See Assessment of Antidumping Duties for a full discussion of this clarification.

Cash Deposit Requirements

Furthermore, the following deposit requirements will be effective upon publication of these final results for all shipments of CMC from Finland entered, or withdrawn from warehouse, for consumption on or after the publication date of the final results of this administrative review, as provided by section 751(a)(1) of the Tariff Act: 1) the cash deposit rate for CP Kelco will be the rate established in the final results of review; 2) if the exporter is not a firm covered in this review or the less-than-fair-value (LTFV) investigation, but the manufacturer is, the cash deposit rate will be the rate established for the most recent period for the manufacturer of the merchandise; and 3) if neither the exporter nor the manufacturer is a firm covered in this or any previous review conducted by the Department, the cash deposit rate will be the all-others rate of 6.65 percent ad valorem from the LTFV investigation. See Purified Carboxymethylcellulose Orders. These deposit requirements, when imposed, shall remain in effect until further notice.

Reimbursement of Duties

This notice also serves as a final reminder to importers of their responsibility under 19 CFR 351.402(f) to file a certificate regarding the reimbursement of antidumping duties prior to liquidation of the relevant entries during this POR. Failure to comply with this requirement could result in the Secretary's presumption that reimbursement of antidumping duties occurred and the subsequent assessment of doubled antidumping duties.

Administrative Protective Orders

This notice also serves as a reminder to parties subject to administrative protective orders (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation which is subject to sanction.

We are issuing and publishing this notice in accordance with sections 751(a)(1) and 777(i) of the Tariff Act.

Dated: June 11, 2009.
Ronald K. Lorentzen,
Acting Assistant Secretary for Import Administration.

[FR Doc. E9-14373 Filed 6-17-09; 8:45 am]

BILLING CODE 3510-DS-S